DEPARTMENT OF HEALTH AND HUMAN SERVICES

National Institutes of Health

National Library of Medicine; Notice of Meeting

Notice is hereby given of the second meeting of the NIH Public Access Working Group under the National Library of Medicine's (NLM) Board of Regents.

The meeting will be open to the public, with attendance limited to space available. Individuals who plan to attend and need special assistance, such as sign language interpretation or other reasonable accommodations, should notify the Contact Person listed below in advance of the meeting.

The mission of the NIH Public Access Working Group is to advise the NLM Board of Regents on implementation of the new NIH Public Access Policy. This policy responds to strong Congressional interest in improving the public's access to the published results of NIH-funded research. Under the policy, NIH-supported investigators are encouraged to submit manuscripts electronically to the National Library of Medicine's PubMed Central (PMC). The PMC is the NIH digital repository of full-text, peer-reviewed biomedical, behavioral, and clinical research journals. The policy included the establishment of this working group with representation from a broad range of interested stakeholders. The Working Group will: (1) Review statistical evidence on the impact of the policy, e.g., number of manuscripts submitted, summary data on embargo periods, connections to other NIH information resources, level of use, etc.; (2) provide suggestions for improving the implementation of the manuscript submission system and procedures; (3) assess the extent to which the policy is achieving its stated goals; and (4) suggest any changes to the policy that might further these goals.

Name of Committee: NIH Public Access Working Group.

Date: November 15, 2005.

Time: 10 a.m. to 3 p.m.

Agenda: NIH Public Access Policy Research and Discussion.

Place: National Library of Medicine, Building 38, Board Room, 2nd Floor, 8600 Rockville Pike, Bethesda, MD 20894.

Contact Person: Donald A.B. Lindberg, M.D., Director, National Library of Medicine, National Institutes of Health, Building 38, Room 2E17, Bethesda, MD 20894, 301-496-6221.

Any interested person may file written comments with the committee by forwarding the statement to the Contact Person listed on this notice. The comments should include the name, address, telephone number and, when applicable, the business or professional affiliation of the interested person.

Dated: October 18, 2005.
Anthony M. Coelho, Jr.,
Acting Director, Office of Federal Advisory Committee Policy.

[FR Doc. 05-21413 Filed 10-26-05; 8:45am]

BILLING CODE 4140-01-M